ENVIRONMENTAL PROTECTION AGENCY

[EPA-HQ-OW-2005-0019; FRL-9110-8]

Agency Information Collection Activities; Submission to OMB for Review and Approval; Comment Request; Contaminant Occurrence Data in Support of EPA's Third Six-Year Review of National Primary Drinking Water Regulations (Renewal); EPA ICR No. 2231.02, OMB Control No. 2040-0275

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before March 8, 2010.

ADDRESSES: Submit your comments, referencing Docket ID No. EPA-HQ-OW-2005-0019, to (1) EPA online using http://www.regulations.gov (our preferred method), or by mail to: EPA Docket Center, Environmental Protection Agency, Water Docket (MC 28221T), 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Shari Bauman, Office of Ground Water and Drinking Water, Standards and Risk Management Division (MC 4607M), Environmental Protection Agency, 1200 Pennsylvania Ave., NW., Washington, DC 20460; telephone number: (202) 564-0293.

SUPPLEMENTARY INFORMATION: EPA has submitted the following ICR to OMB for review and approval according to the procedures prescribed in 5 CFR 1320.12. On September 11, 2009 (74 FR 46765), EPA sought comments on this ICR pursuant to 5 CFR 1320.8(d). EPA received no comments. Any additional comments on this ICR should be submitted to EPA and OMB within 30 days of this notice.

EPA has established a public docket for this ICR under Docket ID No. EPA-HQ-OW-2005-0019, which is available for online viewing at http://www.regulations.gov, or in person viewing at the Water Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Water Docket is 202-566-2426.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Contaminant Occurrence Data in Support of EPA's Third Six-Year Review of National Primary Drinking Water Regulations (Renewal).

ICR numbers: EPA ICR No. 2231.02, OMB Control No. 2040-0275.

ICR Status: This ICR is scheduled to expire on February 28, 2010. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The Safe Drinking Water Act (SDWA), as amended in 1996, requires that EPA review existing National Primary Drinking Water Regulations (NPDWRs) no less often than every six years. This cyclical evaluation is referred to as the “Six-Year Review.” Through the Six-Year Review process, the EPA reviews existing NPDWRs and evaluates whether potential revisions are appropriate to maintain or improve the health of those persons served by public water systems.

EPA completed and published review results for the first Six-Year Review cycle (1996-2002) on July 18, 2003 (68 FR 42908). The occurrence assessments conducted for the first Six-Year Review were based on compliance monitoring data from 1993 to 1997, which were voluntarily provided by States.

EPA expects to complete and publish the review results for the second Six-Year Review cycle (2003-2009) in the near future. The occurrence assessments conducted for the second Six-Year Review are based on data collected between 1998 and 2005 and voluntarily submitted by States and other primacy agencies under the current Information Collection Request (ICR No. 2231.01, 71 FR 32340, June 5, 2006).

To support future Six-Year Reviews, EPA's Office of Water is renewing the current ICR and requesting that States and other primacy agencies voluntarily provide historical compliance monitoring data for community water systems (CWSs) and non-transient non-community water systems (NTNCWSs) to the Agency. The Agency is requesting contaminant occurrence data and treatment technique data collected from 2006 to 2012 for all regulated chemical, radiological and microbiological contaminants as well as data from the Ground Water Rule (GWR), Surface Water Treatment Rules (SWTRs), Long Term 1 and 2 Enhanced Surface Water Treatment Rules (LT1 and LT2) and Interim Enhanced Surface Water Treatment Rule (IESWTR), Stage 1 and 2 Disinfectants and Disinfection Byproducts Rules (DBPRs) and Filter Backwash Recycling Rule (FBRR). This collection request is a renewal of the current ICR (ICR No. 2231.01) with the addition of requesting treatment technique information.

The compliance monitoring records in this information collection (including all results for analytical detections and non-detections) and the treatment technique information (e.g., sanitary survey and corrective action information) will provide the data needed to conduct statistical estimates of national occurrence for regulated contaminants and will assist in the evaluation of regulation effectiveness. These national occurrence estimates and treatment technique information will support the SDWA section 1412(b)(9) mandate, which requires the Agency to review the existing NPDWRs and determine whether revisions are appropriate. In addition, SDWA section 1445(g) requires the Agency to maintain a national drinking water contaminant occurrence database (i.e., the National Contaminant Occurrence Data (NCOD)) using occurrence data for both regulated and unregulated contaminants in public water systems (PWSs). This data collection will provide new occurrence data on regulated contaminants to maintain the NCOD.

Burden Statement: The annual public reporting and recordkeeping burden for this collection of information is estimated to average 13.5 hours per State. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: State drinking water primacy agencies.

Estimated Number of Respondents: 56.

Frequency of Response: Once.

Estimated Total Annual Hour Burden: 756.

Estimated Total Annual Cost: $37,922, this includes $0 annualized capital or O&M costs.

Changes in the Estimates: There is an increase of 75 hours in the total estimated burden currently identified in the OMB Inventory of Approved ICR Burdens. This increase reflects the slight modification in the scope (i.e., to request additional data for several rules such as the GWR, SWTRs, DBPRs and FBRR).

Dated: January 29, 2010.
John Moses,
Director, Collection Strategies Division.

[FR Doc. 2010-2539 Filed 2-4-10; 8:45 am]

BILLING CODE 6560-50-P